DEPARTMENT OF TRANSPORTATION

National Highway Traffic Safety Administration

[Docket No. NHTSA-2002-13220]

Decision That Certain Nonconforming Motor Vehicles Are Eligible for Importation

AGENCY: National Highway Traffic Safety Administration (NHTSA), DOT.

ACTION: Notice of decision by NHTSA that certain nonconforming motor vehicles are eligible for importation.

SUMMARY: This document announces decisions by NHTSA that certain motor vehicles not originally manufactured to comply with all applicable Federal motor vehicle safety standards are eligible for importation into the United States because they are substantially similar to vehicles originally manufactured for importation into and/or sale in the United States and certified by their manufacturers as complying with the safety standards, and they are capable of being readily altered to conform to the standards.

DATES: These decisions are effective as of the date of their publication in the Federal Register.

FOR FURTHER INFORMATION CONTACT: Marilynne Jacobs, Office of Vehicle Safety Compliance, NHTSA (202-366-2832).

SUPPLEMENTARY INFORMATION:

Background

Under 49 U.S.C. 30141(a)(1)(A), a motor vehicle that was not originally manufactured to conform to all applicable Federal motor vehicle safety standards shall be refused admission into the United States unless NHTSA has decided that the motor vehicle is substantially similar to a motor vehicle originally manufactured for importation into and sale in the United States, certified under 49 U.S.C. 30115, and of the same model year as the model of the motor vehicle to be compared, and is capable of being readily altered to conform to all applicable Federal motor vehicle safety standards.

Petitions for eligibility decisions may be submitted by either manufacturers or importers who have registered with NHTSA pursuant to 49 CFR part 592. As specified in 49 CFR 593.7, NHTSA publishes notice in the Federal Register of each petition that it receives, and affords interested persons an opportunity to comment on the petition. At the close of the comment period, NHTSA decides, on the basis of the petition and any comments that it has received, whether the vehicle is eligible for importation. The agency then publishes this decision in the Federal Register.

NHTSA received petitions from registered importers to decide whether the vehicles listed in Annex A to this notice are eligible for importation into the United States. To afford an opportunity for public comment, NHTSA published notice of these petitions as specified in Annex A. The reader is referred to those notices for a thorough description of the petitions. No comments were received in response to these notices. Based on its review of the information submitted by the petitioners, NHTSA has decided to grant the petitions.

Vehicle Eligibility Number for Subject Vehicles

The importer of a vehicle admissible under any final decision must indicate on the form HS-7 accompanying entry the appropriate vehicle eligibility number indicating that the vehicle is eligible for entry. Vehicle eligibility numbers assigned to vehicles admissible under this decision are specified in Annex A.

Final Decision

Accordingly, on the basis of the foregoing, NHTSA hereby decides that each motor vehicle listed in Annex A to this notice, which was not originally manufactured to comply with all applicable Federal motor vehicle safety standards, is substantially similar to a motor vehicle manufactured for importation into and/or sale in the United States, and certified under 49 U.S.C. 30115, as specified in Annex A, and is capable of being readily altered to conform to all applicable Federal motor vehicle safety standards.

Authority: 49 U.S.C. 30141(a)(1)(A) and (b)(1); 49 CFR 593.8; delegations of authority at 49 CFR 1.50 and 501.8.

Issued on: September 5, 2002.
Marilynne Jacobs,
Director, Office of Vehicle Safety Compliance.

Annex A

Nonconforming Motor Vehicles Decided To Be Eligible for Importation

1. Docket No. NHTSA-2002-11881

Nonconforming Vehicle: 1999, 2001 BMW 3 Series passenger cars.

Substantially similar U.S.-certified vehicle: 1999, 2001 BMW 3 Series passenger cars.

Notice of Petition Published at: 67 FR 16147 (April 4, 2002).

Vehicle Eligibility Number: VSP-379.

2. Docket No. NHTSA-2002-11780

Nonconforming Vehicles: 2001 and 2002 Vespa ET2 and ET4 motor scooters.

Substantially similar U.S.-certified vehicles: 2001 and 2002 Vespa ET2 and ET4 motor scooters.

Notice of Petition Published at: 67 FR 13823 (March 26, 2002).

Vehicle Eligibility Number: VSP-378.

3. Docket No. NHTSA-2002-11879

Nonconforming Vehicle: 1980 General Motors Jimmy multipurpose passenger vehicles.

Substantially similar U.S.-certified vehicle: 1980 General Motors Jimmy multipurpose passenger vehicles.

Notice of Petition Published at: 67 FR 22488 (May 3, 2002).

Vehicle Eligibility Number: VSP-383.

4. Docket No. NHTSA-2002-11880

Nonconforming Vehicles: 1978 General Motors Blazer multipurpose passenger vehicles.

Substantially similar U.S.-certified vehicles: 1978 General Motors Blazer multipurpose passenger vehicles.

Notice of Petition Published at: 67 FR 21796 (May 1, 2002).

Vehicle Eligibility Number: VSP-384

5. Docket No. NHTSA-2002-12047

Nonconforming Vehicle: 2001 Jeep Grand Cherokee multipurpose passenger vehicles.

Substantially similar U.S.-certified vehicle: 2001 Jeep Grand Cherokee multipurpose passenger vehicles.

Notice of Petition Published at: 67 FR 18679 (April 16, 2002).

Vehicle Eligibility Number: VSP-382

6. Docket No. NHTSA-2002-12048

Nonconforming Vehicles: 1999, 2000, 2001 Mercedes Benz CLK passenger cars.

Substantially similar U.S.-certified vehicles: 1999, 2000, 2001 Mercedes Benz CLK passenger cars.

Notice of Petition Published at: 67 FR 18678 (April 16, 2002).

Vehicle Eligibility Number: VSP-380.

7. Docket No. NHTSA-2002-12046

Nonconforming Vehicle: 2000, 2001 Mercedes Benz SLK passenger cars.

Substantially similar U.S.-certified vehicle: 2000, 2001 Mercedes Benz SLK passenger cars.

Notice of Petition Published at: 67 FR 18680 (April 16, 2002).

Vehicle Eligibility Number: VSP-381.

8. Docket No. NHTSA-2002-12316

Nonconforming Vehicles: 1999, 2000, 2001, 2002 Mercedes Benz S Class (W220) passenger cars.

Substantially similar U.S.-certified vehicles: 1999, 2000, 2001, 2002 Mercedes Benz S Class (W 220) passenger cars.

Notice of Petition Published at: 67 FR 38314 (June 3, 2002).

Vehicle Eligibility Number: VSP-387.

9. Docket No. NHTSA-2002-12317

Nonconforming Vehicles: 1997, 1998, 1999, 2000 Mercedes Benz SL Class (W129) passenger cars.

Substantially similar U.S.-certified vehicles: 1997, 1998, 1999, 2000 Mercedes Benz SL Class (W129) passenger cars.

Notice of Petition Published at: 67 FR 36664 (May 24, 2002).

Vehicle Eligibility Number: VSP-386.

[FR Doc. 02-22951 Filed 9-9-02; 8:45 am]

BILLING CODE 4910-59-P